DEPARTMENT OF COMMERCE

National Oceanic and Atmospheric Administration

RIN 0648-XG302

Endangered Species; File Nos. 18238, 21327 and 22123

AGENCY: National Marine Fisheries Service (NMFS), National Oceanic and Atmospheric Administration (NOAA), Commerce.

ACTION: Notice; receipt of applications for permits and a permit modification.

SUMMARY: Notice is hereby given that three applicants have applied in due form for a permit or permit modification to take green (Chelonia mydas), hawksbill (Eretmochelys imbricata), Kemp's ridley (Lepidochelys kempii), loggerhead (Caretta caretta), and olive ridley (L. olivacea) sea turtles for purposes of scientific research.

DATES: Written, telefaxed, or email comments must be received on or before August 16, 2018.

ADDRESSES: The application and related documents are available for review by selecting “Records Open for Public Comment” from the “Features” box on the Applications and Permits for Protected Species (APPS) home page, https://apps.nmfs.noaa.gov, and then selecting the applicable File No. from the list of available applications.

These documents are also available upon written request or by appointment in the Permits and Conservation Division, Office of Protected Resources, NMFS, 1315 East-West Highway, Room 13705, Silver Spring, MD 20910; phone (301) 427-8401; fax (301) 713-0376.

Written comments on the applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Amy Hapeman (for File No. 18238-01) or Erin Markin (for File Nos. 21327 and 22123), (301) 427-8401.

SUPPLEMENTARY INFORMATION: The subject permits and permit modification are requested under the authority of the Endangered Species Act of 1973, as amended (ESA; 16 U.S.C. 1531 et seq.) and the regulations governing the taking, importing, and exporting of endangered and threatened species (50 CFR parts 222-226).

File No. 18238-01: Permit No. 18238 issued on April 21, 2016 (81 FR 43589) authorizes the NMFS Southwest Fisheries Science Center, 8901 La Jolla Shores Drive, La Jolla, CA 92037, (Responsible Party: Lisa Ballance, Ph.D.,) to take green, loggerhead, and olive ridley sea turtles for research in southern California waters. Researchers may conduct vessel surveys for sea turtle counts, captures, examination, observation, marking, biological sampling, tagging, and morphometrics. The permit holder requests authorization to: (1) Increase the number of green sea turtles that may be taken from 60 to 100 turtles annually to accommodate an increase in survey effort needed to improve population abundance estimates, and (2) extend the duration of the permit until September 30, 2025.

File No. 21327: Raymond Carthy, Florida Cooperative Fish and Wildlife Research Unit, USGS-BRD, P.O. Box 110485, Gainesville, FL 23611, proposes to continue research to determine (1) distribution and abundance, (2) use of benthic habitats, (3) demographics and movement patterns, and (4) human impacts for sea turtles in the Florida Panhandle and Big Bend region of Florida. Up to 1720 green, 160 hawksbill, 285 Kemp's ridley, and 180 loggerhead sea turtles, annually, may be harassed, but not captured, during vessel surveys and when using a remotely operated vehicle to study brumating behavior. Up to 540 green, 40 hawksbill, 210 Kemp's ridley, and 130 loggerhead sea turtles would be captured, annually, by hand, or dip, tangle, or strike net, marked, biologically sampled (blood, tissue, scute), tagged (flipper and passive integrated transponder [PIT]), measured, weighed, and photographed prior to release. A subset of captured sea turtles would receive a satellite tag or a combination of an acoustic and archival tag and a subset of green sea turtles would be lavaged prior to release. The permit would be valid for 10 years from the date of issuance.

File No. 22123: Jeffrey Schmid, Ph.D., Conservancy of Southwest Florida, 1495 Smith Preserve Way, Naples, FL 34102, proposes to continue long-term in-water studies of sea turtles inhabiting the Charlotte Harbor and Ten Thousand Islands estuarine complexes on the southwest coast of Florida to determine species composition, abundance, size-class distribution, migration patterns, growth, habitat preference, and site fidelity. Up to 60 Kemp's ridley and 30 loggerhead sea turtles, annually, would be captured by strike net, biologically sampled (blood, scute, tissue), tagged (PIT, flipper), transported to and temporarily held in a facility for opportunistic fecal collection, photographed, measured, and weighed prior to release. A subset of captured Kemp's ridley and loggerhead sea turtles also would receive a satellite tag or radio and sonic tags prior to release. Up to 20 green sea turtles, annually, would be captured by strike net, biologically sampled (blood, scute, tissue), tagged (PIT, flipper), photographed, measured, weighed, and receive a satellite tag or radio and sonic tags prior to release. Up to five hawksbill sea turtles, annually, would be captured by strike net, biologically sampled (blood, scute, tissue), tagged (PIT, flipper), photographed, measured, and weighed prior to release. The permit would be valid for 10 years from the date of issuance.

Dated: July 12, 2018.
Julia Marie Harrison,
Chief, Permits and Conservation Division, Office of Protected Resources, National Marine Fisheries Service.

[FR Doc. 2018-15196 Filed 7-16-18; 8:45 am]

BILLING CODE 3510-22-P